EXECUTIVE OFFICE OF THE PRESIDENT

Office of National Drug Control Policy

Appointment of Members of Senior Executive Service Performance Review Board

AGENCY: Office of National Drug Control Policy (ONDCP).

ACTION: Notice of appointments.

SUMMARY: The following persons have been appointed to the ONDCP Senior Executive Service Performance Review Board: Ms. Martha Gagné (as Chair), Mr. Kemp Chester, Mr. Eric Talbot, and Dr. Terry Zobeck.

FOR FURTHER INFORMATION CONTACT: Please direct any questions to Michael Passante, Acting General Counsel, (202) 395-6709, Office of National Drug Control Policy, Executive Office of the President, Washington, DC 20503.

Dated: July 14, 2020.
Michael Passante,
Acting General Counsel.

[FR Doc. 2020-15491 Filed 7-16-20; 8:45 am]

BILLING CODE 3280-F5-P